DEPARTMENT OF HEALTH AND HUMAN SERVICES

Centers for Disease Control and Prevention

[30-Day-15-14BA]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Annual Survey of the National Breast and Cervical Cancer Early Detection Program (NBCCEDP) Grantees—New—National Center for Chronic Disease Prevention and Health Promotion (NCCDPHP), Centers for Disease Control and Prevention (CDC).

Background and Brief Description

To improve access to cancer screening, Congress passed the Breast and Cervical Cancer Mortality Prevention Act of 1990 (Pub. L. 101-354) which directed CDC to create the National Breast and Cervical Cancer Early Detection Program (NBCCEDP). Currently, the NBCCEDP funds 67 grantees including all 50 states, the District of Columbia, 5 U.S. territories, and 11 American Indian/Alaska Native tribes or tribal organizations. Grantees provide screening services for breast and cervical cancer to low-income, uninsured, and underinsured women who otherwise would not have access to screening.

The NBCCEDP is shifting from a focus on direct service provision to implementation of expanded evidence-based activities intended to increase rates of breast and cervical cancer screening at the population level. Though NBCCEDP grantees continue to provide breast and cervical cancer screening for un- and underinsured women, CDC is encouraging the implementation of strategies to increase screening rates beyond that of program-eligible women. This data collection is being proposed in order to assess program implementation, particularly related to these expanded population-based efforts. A survey of NBCCEDP grantees was originally fielded in Fall/Winter 2013-2014 and cleared under 0920-0879 as “Assess Breast and Cervical Cancer Screening Program Activities to Expand Access to Screening”. The survey was found to be useful by CDC and the awardees (which received feedback reports). For example, after the initial implementation of last year's survey, CDC was able to tailor sessions at the Program Director's meeting to the needs of grantees that had been expressed during last year's information collection. DCPC has decided to continue the data collection as an annual survey. Questions are of various types including dichotomous and multiple response.

This assessment will enable CDC to gauge its progress in meeting NBCCEDP program goals, identify implementation activities, monitor program transition to efforts aimed at impacting population-based screening, identify technical assistance needs of state, tribe and territorial health department cancer control programs, and identify implementation models with potential to expand and transition to new settings to increase program impact and reach. The assessment will identify successful activities that should be maintained, replicated, or expanded as well as provide insight into areas that need improvement.

OMB approval is requested for three years. Participation is voluntary for NBCCEDP awardees and there are no costs to respondents other than their time. The estimated burden per response is 40 minutes and the total estimated annualized burden hours are 45.

Estimated Annualized Burden Hours
Type of respondents | Form name | Number of respondents | Number of responses per respondent | Average burden per response (in hrs.)
Breast and Cervical Cancer Program Directors | Annual Survey of the National Breast and Cervical Cancer Early Detection Program (NBCCEDP) Grantees' Program Implementation | 67 | 1 | 40/60

Leroy A. Richardson,
Chief, Information Collection Review Office, Office of Scientific Integrity, Office of the Associate Director for Science, Office of the Director, Centers for Disease Control and Prevention.

[FR Doc. 2014-24438 Filed 10-14-14; 8:45 am]

BILLING CODE 4163-18-P